DEPARTMENT OF THE INTERIOR

Fish and Wildlife Service

Information Collection Renewal Submitted to the Office of Management and Budget (OMB) for Approval Under the Paperwork Reduction Act

AGENCY: Fish and Wildlife Service, Interior.

ACTION: Information collection; request for comments.

SUMMARY: We are submitting the collection of information described below to OMB for renewal under the provisions of the Paperwork Reduction Act of 1995. If you wish to obtain copies of the proposed information collection requirement, related forms, and/or explanatory material, contact the Information Collection Clearance Officer at the address listed below.

DATES: OMB has up to 60 days to approve or disapprove information collection but may respond after 30 days. Therefore, to ensure maximum consideration, you must submit comments on or before December 13, 2000.

ADDRESSES: Send your comments on the requirement to the Office of Management and Budget, Attention: Department of Interior Desk Officer, 725 17th Street, NW., Washington, DC 20503, and to Rebecca Mullin, Service Information Collection Clearance Officer, U.S. Fish and Wildlife Service, MS 222-ARLSQ, 1849 C Street NW., Washington, DC 20204.

FOR FURTHER INFORMATION CONTACT: Rebecca Mullin, Information Collection Clearance Officer, at (703) 358-2287; rebecca_mullin@fws.gov.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities. The U.S. Fish and Wildlife Service plans to submit a request to OMB to renew its approval of the collection of information concerning numbers of double-crested cormorants taken under the Depredation Order (50 CFR 21.47). We are requesting a 3-year term of approval for this information collection activity. A previous 60 day notice was published (July 28, 2000, pages 46488-46489) in the Federal Register inviting public comment. One comment was received.

Comments

A letter from the National Aquaculture Association (NAA) stated that although they felt the time burden was underestimated, the burden is justified because the information collection is “vital to the overall management program.” NAA also suggested that publishing an on-line summary of the results of the information collection (i.e., the number of cormorants killed under the Depredation Order) would be useful and that online reporting should be considered.

Response

While we do not feel that these comments justify revising the estimated time burden, we will consider the idea of using the internet for information collection and sharing once OMB approval is completed.

Federal agencies may not conduct or sponsor, and a person is not required to respond to, a collection of information unless it displays a currently valid OMB control number. OMB granted an emergency control number (1018-0097) for this collection of information, which expired in August 1998. The Service is currently in the process of preparing an Environmental Impact Statement and national management plan for the double-crested cormorant and would like to renew the control number so that it may collect relevant biological information from aquaculturists under the terms of the Depredation Order.

The Migratory Bird Treaty Act (16 U.S.C. 703-711) and Fish and Wildlife Act of 1956 (16 U.S.C. 742d) designate the Department of the Interior as the key agency responsible for the management of migratory bird populations frequenting the United States. This responsibility dictates the gathering of accurate data on various characteristics of migratory bird populations. In 1998, we issued a standing Depredation Order that allows persons engaged in the production of commercial freshwater aquaculture stocks in 13 States to take depredating double-crested cormorants at aquacultural facilities. Under the conditions of the Depredation Order, any person exercising such privileges must keep and maintain a monthly log recording the date and number of all cormorants killed each month, maintain the log for a period of 3 years, and make the log available to Federal and State wildlife enforcement officers upon request. The mortality information that these logs provide is necessary for the development of population data and determination of program effectiveness to be used for management purposes.

Title: Depredation Order for the Double-crested Cormorant.

Approval Number: 1018-0097.

Service Form Number: None.

Frequency of Collection: Annually.

Description of Respondents: Businesses, individuals, and State, local, or tribal governments

Total Annual Burden Hours: The total annual burden is estimated at 875 hours.

Total Annual Responses: About 2,200 individuals are expected to complete the required mortality logs and approximately 250 individuals will complete the annual survey (for a total of 2,450).

We invite comments concerning this renewal on: (1) Whether the collection of information is necessary for the proper performance of our migratory bird management functions; (2) the accuracy of our estimate of the burden of the collection of information; (3) ways to enhance the quality, utility, and clarity of the information to be collected; and (4) ways to minimize the burden of the collection of information on respondents.

Dated: November 3, 2000.
Rebecca A. Mullin,
Information Collection Clearance Officer.

[FR Doc. 00-28918 Filed 11-9-00; 8:45 am]

BILLING CODE 4310-55-P